DEPARTMENT OF AGRICULTURE

Rural Housing Service

U.S. Department of Agriculture Multi-Family Housing Program 2012 Industry Forums—Open Teleconference and/or Web Conference Meetings

AGENCY: Rural Housing Service, USDA.

ACTION: Announcement of meetings.

SUMMARY: This Notice announces a series of teleconferences and/or Web conference meetings regarding the USDA Multi-Family Housing Program. The teleconference and/or Web conference meetings will be scheduled on a quarterly basis, but may be held monthly at the Agency's discretion. This Notice also outlines suggested discussion topics for the meetings and is intended to notify the general public of their opportunity to participate in the teleconference and/or Web conference meetings.

DATES: Teleconference and/or Web conference meetings are scheduled to occur during the months of January, April, July, and October of 2012. The dates and times for the teleconference and/or Web conference meetings will be announced via e-mail to parties registered as described below.

FOR FURTHER INFORMATION CONTACT: Any member of the public wishing to register for the meetings and obtain the call-in number, access code, Web link and other information for any of the public teleconference and/or Web conference meetings may contact Timothy James, Loan and Finance Analyst, Multi-Family Housing, (202) 720-1094, fax at (202) 720-0302, or email address timothy.james@wdc.usda.gov and provide their name title, agency/company name, address, telephone numbers and email address. People who are already registered do not need to register again.

SUPPLEMENTARY INFORMATION: The objectives of this series of teleconferences are as follows:

• Enhance the effectiveness of the Multi-Family Housing Program

• Establish a two-way communications forum to update industry participants and Rural Housing Service (RHS) staff

• Enhance RHS' awareness of issues that impact the Multi-Family Housing Program

• Increase transparency and accountability in the Multi-Family Housing Program

Topics to be discussed could include, but will not be limited to, the following:

• Updates on USDA Multi-Family Housing Program activities

• Perspectives on the Multi-Family Notice of Funds Availability processes

• Comments on Section 514/516 and Section 515 transaction processes

• Comments on particular servicing-related activities of interest at that time

Dated: January 16, 2012.
Tammye Trevino,
Administrator, Rural Housing Service.

[FR Doc. 2012-1573 Filed 1-25-12; 8:45 am]

BILLING CODE 3410-XV-P